INTERNATIONAL TRADE COMMISSION

[Investigation No. 731-TA-860 (Review)]

Tin- and Chromium-Coated Steel Sheet from Japan

AGENCY: United States International Trade Commission.

ACTION: Revised schedule for the subject review.

DATES: Effective Date: April 17, 2006.

FOR FURTHER INFORMATION CONTACT: Olympia Hand (202-205-3182) or Douglas Corkran (202-205-3057), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: Effective December 2, 2005, the Commission established a schedule for the conduct of the subject full review (70 FR 73027, December 8, 2005). Subsequently, counsel on behalf of the Japanese respondents requested that the Commission postpone its deadline for the filing of posthearing briefs by two days, citing communication difficulties arising from multiple national holidays in Japan during the period between the Commission's hearing and the due date for posthearing briefs.¹ No party to the review objected to the requested postponement. The Commission, therefore, is revising its schedule to incorporate this and related changes to the schedule of the review.

¹ Correspondence of April 7, 2006, from Willkie Farr & Gallagher LLP.

The Commission's new schedule for the review is as follows: the deadline for filing posthearing briefs is May 10, 2006; the Commission will make its final release of information on June 6, 2006; and final party comments are due on June 8, 2006.

For further information concerning this review see the Commission's notice cited above and the Commission's Rules of Practice and Procedure, part 201, subparts A through E (19 CFR part 201), and part 207, subparts A, D, E, and F (19 CFR part 207).

Authority: This review is being conducted under authority of title VII of the Tariff Act of 1930; this notice is published pursuant to section 207.62 of the Commission's rules.

Issued: April 17, 2006.
By order of the Commission.
Marilyn R. Abbott,
Secretary to the Commission.

[FR Doc. E6-6028 Filed 4-21-06; 8:45 am]

BILLING CODE 7020-02-P